DEPARTMENT OF HEALTH AND HUMAN SERVICES

Centers for Disease Control and Prevention

CDC/HRSA Advisory Committee on HIV and STD Prevention and Treatment

In accordance with section 10(a)(2) of the Federal Advisory Committee Act (Pub. L. 92-463), the Centers for Disease Control and Prevention (CDC) announces the following committee meeting.

Name: CDC/HRSA Advisory Committee on HIV and STD Prevention and Treatment.

Time and Date: 8 a.m.-5 p.m., October 19, 2005.

Place: Hotel Washington, 15th and Pennsylvania Avenue, NW., Washington, DC 20004. Telephone: (202) 638-5900.

Time and Date: 8 a.m.-12 p.m., October 20, 2005.

Place: Ronald Reagan Building and International Trade Center, Horizon Room, 1300 Pennsylvania Avenue, NW., Washington, DC 20004. Telephone: (202) 213-1300.

Status: Open to the public, limited only by the space available. The meeting room will accommodate approximately 100 people.

Purpose: This Committee is charged with advising the Secretary; the Director, CDC; and the Administrator, HRSA, regarding activities related to prevention and control of HIV/AIDS and other STDs, the support of health care services to persons living with HIV/AIDS, and education of health professionals and the public about HIV/AIDS and other STDs.

Matters To Be Discussed: Agenda items include issues pertaining to (1) syphilis elimination, (2) HIV Prevention Priorities for African American Men Who Have Sex With Men, (3) Medicare Part D Outreach/TA, and (4) Ryan White CARE Act Reauthorization.

Agenda items are subject to change as priorities dictate.

Contact Person for More Information: Paulette Ford-Knights, Public Health Analyst, National Center for HIV, STD, and TB Prevention, 1600 Clifton Road, NE., Mailstop E-07, Atlanta, Georgia 30333. Telephone (404) 639-8008, fax: (404) 639-3125, e-mail pbf7@cdc.gov.

The Director, Management Analysis and Services Office, has been delegated the authority to sign Federal Register Notices pertaining to announcements of meetings and other committee management activities, for both the CDC and the Agency for Toxic Substances and Disease Registry.

Dated: September 12, 2005.
Alvin Hall,
Director, Management Analysis and Services Office, Centers for Disease Control and Prevention (CDC).

[FR Doc. 05-18687 Filed 9-19-05; 8:45 am]

BILLING CODE 4163-18-P